DEPARTMENT OF HEALTH AND HUMAN SERVICES

National Institutes of Health

National Institute of Allergy and Infectious Diseases; Amended Notice of Meeting

Notice is hereby given of a change in the meeting of the National Institute of Allergy and Infectious Diseases Special Emphasis Panel, October 31, 2013, 11:00 a.m. to November 1, 2013, 3:00 p.m., National Institutes of Health, 6700B Rockledge Drive, Bethesda, MD 20817 which was published in the Federal Register on October 25, 2013, 78 FR 63996.

The meeting notice is amended to change the date of the meeting. The meeting is November 15-18, 2013. The meeting is closed to the public.

Dated: October 25, 2013.
David Clary,
Program Analyst, Office of Federal Advisory Committee Policy.

[FR Doc. 2013-25907 Filed 10-30-13; 8:45 am]

BILLING CODE 4140-01-P